DEPARTMENT OF COMMERCE

National Oceanic and Atmospheric Administration

[I.D. 021003B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Highly Migratory Species Committee, Habitat Committee, Advisory Panel Selection Committee (closed session) and Executive Committee. There will also be a full Council Session.

DATES: The meetings will be held in March 2003. See SUPPLEMENTARY INFORMATION for specific dates and times.

ADDRESSES: The meetings will be held at the Holiday Inn Beach Resort, 200 South Beachview Drive, Jekyll Island, GA 31527; telephone: (1-800) 753-5955 or (912) 635-3311.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. Snapper Grouper Committee Meeting: March 3, 2003, 1:30 p.m. until 5 p.m.

The Snapper Grouper Committee will meet to receive a presentation on the results of the Vermilion Snapper Black Sea Bass Stock Assessment and Review Workshops. In addition, the Committee will receive updates on the status of the NC pilot program for observer work on bycatch, a NOAA Fisheries report on estimating bycatch from logbooks, a progress report on economic data collection via logbooks, and the status of a snapper/grouper electronic logbook pilot study.

2. Snapper Grouper Committee Meeting: March 4, 2003, 8:30 a.m. until 5 p.m. and continued March 5, 2003, from 8:30 a.m. until 12 noon.

Following the presentations, the Committee will review draft Amendment 13 to the Snapper Grouper Fishery Management Plan (FMP) and develop recommendations for the Council. The Committee will also discuss the status of Amendment 14 to the Snapper Grouper FMP involving the use of marine protected areas as a management tool.

3. Highly Migratory Species Committee Meeting: March 5, 2003, 1:30 p.m. until 2:30 p.m.

The Highly Migratory Species (HMS) Committee will meet to hear a report on the HMS Advisory Panel meetings and discuss current HMS issues.

4. Habitat Committee Meeting: March 5, 2003, 2:30 p.m. until 5 p.m.

The Habitat Committee will meet to consider recommendations from the Habitat and Environmental Protection Advisory Panel and the Coral Advisory Panel and take action regarding those recommendations for consideration by full Council. The Committee will also develop guidance on revisions to current Policy Statements.

5. Advisory Panel Selection Committee Meeting (CLOSED): March 6, 2003, 8:30 a.m. until 10:30 a.m.

The Advisory Panel Selection Committee will meet to review current applications for advisory panel positions and develop recommendations.

6. Executive Committee Meeting: March 6, 2003, 10:30 a.m. until 12 noon.

The Executive Committee will meet to review and discuss major issues raised at the Council Chairmen/NOAA Fisheries meeting, hear a report on a recent meeting of Council representatives and staff with Dr. William Hogarth, NOAA Assistant Administrator of Fisheries and his staff, and review the status of Shrimp Amendment 6.

7. Council Session: March 6, 2003, 1:30 p.m. until 5 p.m.

From 1:30 p.m. 1:45 p.m., the Council will have a Call to Order, introductions and roll call, adoption of the agenda, and approval of the December 2002 meeting minutes.

From 1:45 p.m. 3:45 p.m., the Council will hear recommendations from the Snapper Grouper Committee and take action regarding draft Snapper Grouper Amendment 13.

From 3:45 p.m. 5 p.m., the Council will receive a presentation of proposed regulatory changes in Gray's Reef National Marine Sanctuary and take action regarding the proposal.

From 5 p.m. 6 p.m., the Council will receive legal briefing on litigation affecting the Council (CLOSED SESSION).

8. Council Session: March 7, 2003, 8:30 a.m. until 12 Noon.

From 8:30 a.m. 9 a.m., the Council will hear recommendations from the Advisory Panel Selection Committee and appoint new advisory panel members.

From 9 a.m. 9:15 a.m., the Council will receive a report from the Highly Migratory Species Committee.

From 9:15 a.m. 9:30 a.m., the Council will hear a report from the Habitat Committee.

From 9:30 a.m. 10:30 a.m., the Council will receive a presentation on the Marine Recreational Fisheries Statistics Survey (MRFSS).

From 10:30 a.m. 11:15 a.m., the Council will hear NOAA Fisheries status reports on the Golden/Red Crab/Skate FMP management unit issue, Shrimp Amendment 5 implementation, the Sargassum FMP, the Dolphin Wahoo FMP, the SEDAR Committee Process and implementation of the ACCSP (Atlantic Coast Cooperative Statistics Program) in the Southeast Region. NOAA Fisheries will also give status reports on landings for Atlantic king mackerel, Gulf king mackerel (eastern zone), Atlantic Spanish mackerel, snowy grouper golden tilefish, wreckfish, greater amberjack and south Atlantic octocorals.

From 11:15 a.m. 12 noon, the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by February 27, 2003.

Dated: February 11, 2003.
Theophilus R. Brainerd,
Acting Director, Office of Sustainable Fisheries, National Marine Fisheries Service

[FR Doc. 03-3760 Filed 2-13-03; 8:45 am]

BILLING CODE 3510-22-S